DEPARTMENT OF ENERGY

Federal Energy Regulatory Commission

Notice of Application Ready for Environmental Analysis, Soliciting Comments, Recommendations, Terms and Conditions, and Prescriptions

March 14, 2002.

Take notice that the following hydroelectric application has been filed with the Commission and is available for public inspection.

a. Type of Application: Amended application for new license.

b. Project No.: 1354-005.

c. Date filed: July 28, 2001.

d. Applicant: Pacific Gas and Electric Company.

e. Name of Project: Crane Valley.

f. Location: On Willow Creek, North Fork Willow Creek, South Fork Willow Creek, Chilkoot Creek, and Chiquito Creek within the San Joaquin River Basin. The project is in Madera and Fresno counties near the town of Oakhurst, California.

The project includes 738.11 acres of federal lands within the Sierra National Forest.

g. Filed Pursuant to: Federal Power Act, 16 U.S.C. 791 (a)-825(r).

h. Applicant Contact: Mr. James Holeman (415) 973-6891 or Mr. Nicholas Markevich, 245 Market Street, P.O. Box 770000, San Francisco, CA 94177, (415) 973-5358.

i. FERC Contact: Jim Fargo at (202) 219-2848; e-mail james.fargo@ferc.fed.us

j. Deadline for filing comments, recommendations, terms and conditions, and prescriptions: 60 days from the issuance date of this notice.

All documents (original and eight copies) should be filed with: Magalie R. Salas Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's web site (http://www.ferc.gov) under the “e-Filing” link.

k. Status of environmental analysis: This application has been accepted for filing and is now ready for environmental analysis. At this time we do not anticipate the need for preparing a draft EA. We intend to prepare a supplement to the environmental document issued in 1992. The supplemental EA will include our recommendations for operating procedures and environmental enhancement measures that should be part of any new license issued by the Commission. Recipients will have 45 days to provide the Commission with any comments on that document. All comments on the EA, filed with the Commission, will be considered in the licensing decision. However, should substantive comments requiring re-analysis be received on the NEPA document, we would consider preparing a subsequent NEPA document before the licensing decision.

1. The Crane Valley—with 26.7 megawatts (MW) of normal operating capacity—has storage, diversion, water conveyance, and power production facilities.

• The Crane Valley reservoir (Bass Lake) with a maximum storage capacity of 45,410 acre-feet (ac-ft) and Chilkoot reservoir, upstream of Crane Valley, with a maximum capacity of 310 ac-ft

• A small diversion on a tributary to the West Fork Chiquito Creek that brings water to Chilkoot reservoir

• A conveyance system—including three diversion dams, three forebays, one afterbay, and about 14 miles of canals, tunnels and flumes—linking these five powerhouses:

—Crane Valley, with 0.9 MW of normal operating capacity

—San Joaquin No. 3, with 3.4 MW of normal operating capacity

—San Joaquin No. 2, with 3.2 MW of normal operating capacity

—San Joaquin No. 1A, with 0.4 MW of normal operating capacity

—Wishon, with 18.8 MW of normal operating capacity

Historically, the Project produces 123.3 gigawatthours (GWh) of electrical energy annually and has a dependable capacity of 8.4 MW.

m. Locations of the Application: Copies of the application are available for inspection or reproduction at the Commission's Public Reference and Files Maintenance Branch, located at 888 First Street, NE, Washington, D.C. 20426, or by calling (202) 208-2326. The applications may also be viewed on the web at http://www.ferc.gov using the “RIMS” link-select “Docket #” and follow the instructions (call 202-208-2222 for assistance). A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-6699 Filed 3-19-02; 8:45 am]

BILLING CODE 6717-01-P